DEPARTMENT OF COMMERCE

International Trade Administration

[A-570-062]

Cast Iron Soil Pipe Fittings From the People's Republic of China: Final Results of Antidumping Duty Administrative Review; 2018-2019

AGENCY: Enforcement and Compliance, International Trade Administration, Department of Commerce.

SUMMARY: The Department of Commerce (Commerce) determines that Wor-Biz Industrial Product Co., Ltd. (Anhui) (Wor-Biz) ¹ has made sales of cast iron soil pipe fittings (soil pipe fittings) from the People's Republic of China (China) at prices below normal value during the period of review (POR) February 20, 2018, through July 31, 2019. We also determine that Qinshui Shunsida Casting Co., Ltd. (Shunshida) is not eligible for a separate rate and is, therefore, part of the China-wide entity.

¹ On January 8, 2020, Commerce determined that Wor-Biz Industrial Product Co., Ltd. (Anhui) is the successor-in-interest to Wor-Biz Trading Co., Ltd. (Anhui) and is therefore entitled to that company's cash deposit rate with respect to entries of subject merchandise. See Cast Iron Soil Pipe Fittings from the People's Republic of China: Final Results of Changed Circumstances Review, 85 FR 881 (January 8, 2020).

DATES: Applicable February 9, 2021.

FOR FURTHER INFORMATION CONTACT: Samantha Kinney, AD/CVD Operations, Office VIII, Enforcement and Compliance, International Trade Administration, U.S. Department of Commerce, 1401 Constitution Avenue NW, Washington, DC 20230; telephone: 202-482-2285.

SUPPLEMENTARY INFORMATION:

Background

Commerce published the Preliminary Results of the administrative review on June 24, 2020.² For the events that occurred since Commerce published the Preliminary Results, see the Issues and Decision Memorandum.³ Commerce conducted this review in accordance with section 751(a) of the Tariff Act of 1930, as amended (the Act).

² See Cast Iron Soil Pipe Fittings from the People's Republic of China: Preliminary Results of the Antidumping Results of the Antidumping Duty Administrative Review 2018-2019, 85 FR 37832 (June 24, 2020) (Preliminary Results), and the accompanying preliminary decision memorandum.

³ See Memorandum, “Issues and Decision Memorandum: Antidumping Duty Administrative Review of Cast Iron Soil Pipe Fittings from the People's Republic of China; 2018-2019,” dated concurrently with, and hereby adopted by, the notice (Issues and Decision Memorandum).

On July 21, 2020, Commerce tolled all deadlines in administrative reviews by 60 days.⁴ On December 18, 2020, Commerce extended the deadline for the final results of this review.⁵ The revised deadline for the final results of this review is now June 21, 2021.

⁴ See Memorandum, “Tolling of Deadlines for Antidumping and Countervailing Duty Administrative Reviews,” dated July 21, 2020.

⁵ See Memorandum, “Cast Iron Soil Pipe Fittings from the People's Republic of China: Extension of Deadline for Final Results of Antidumping Duty Administrative Review,” dated December 18, 2020.

Scope of the Order ⁶

⁶ See Cast Iron Soil Pipe Fittings from the People's Republic of China: Amended Final Determination of Sales at Less Than Fair Value and Antidumping Duty Order, 83 FR 44570 (August 31, 2018) (the Order).

The product covered by the Order is soil pipe fittings from China. A full description of the scope of the order is contained in the Issues and Decision Memorandum.

Analysis of Comments Received

All issues raised in the parties' briefs are addressed in the Issues and Decision Memorandum. A list of these issues is in the appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly on the internet at http://enforcement.trade.gov/frn/index.html. The signed Issues and Decision Memorandum and electronic version of the Issues and Decision Memorandum are identical in content.

Changes From the Preliminary Results

Based on our analysis of the comments received, Commerce made no revisions to the calculations of the rates assigned to Wor-Biz and the non-examined separate rate respondents.

Separate Rates

In the Preliminary Results, we determined that Dalian Lino F.T.Z. Co., Ltd., Dalian Metal I/E Co., Ltd., Dinggin Hardware (Dalian) Co., Ltd., and Shijiazhuang Asia Casting Co., Ltd., which were not selected for individual review, demonstrated their eligibility for separate rates, and we continue to do so in these final results.

Rate for Non-Examined Separate Rate Respondents

The statute and our regulations do not address the establishment of a rate to be assigned to respondents not selected for individual examination when we limit our examination of companies subject to the administrative review pursuant to section 777A(c)(2)(B) of the Act. Generally, we look to section 735(c)(5) of the Act, which provides instructions for calculating the all-others rate in an investigation, for guidance when calculating the rate for respondents not individually examined in an administrative review. Under section 735(c)(5)(A) of the Act, the all-others rate is normally “an amount equal to the weighted average of the estimated weighted average dumping margins established for exporters and producers individually investigated, excluding any zero and de minimis margins, and any margins determined entirely {on the basis of facts available}.” Accordingly, Commerce's usual practice in determining the rate for separate rate respondents not selected for individual examination, has been to average the weighted-average dumping margins for the selected companies, excluding rates that are zero, de minimis, or based entirely on facts available.⁷ However, when the weighted-average dumping margins established for all individually investigated respondents are zero, de minimis, or based entirely on adverse facts available (AFA), section 735(c)(5)(B) of the Act permits Commerce to “use any reasonable method to establish the estimated all-others rate for exporters and producers not individually investigated, including averaging the estimated weighted average dumping margins determined for the exporters and producers individually investigated.”

⁷ See Longkou Haimeng Mach. Co. v. United States, 581 F. Supp. 2d 1344, 1357-60 (CIT 2008) (affirming Commerce's determination to assign a 4.22 percent dumping margin to the separate rate respondents in a segment where the three mandatory respondents received dumping margins of 4.22 percent, 0.03 percent, and zero percent, respectively); see also Certain Kitchen Appliance Shelving and Racks from the People's Republic of China: Final Determination of Sales at Less Than Fair Value, 74 FR 36656, 36660 (July 24, 2009).

For the final results of this review, Wor-Biz is the only individually examined respondent that received a weighted-average dumping margin that is neither de minimis nor based entirely on AFA. Therefore, we have assigned Wor-Biz's margin to all eligible non-selected separate rate respondents.

The China-Wide Entity

Commerce considers all companies for which a review was requested and which did not demonstrate separate rate eligibility to be part of the China-wide entity. For the final results of this administrative review, we consider six companies to be part of the China-wide entity: Golden Orange International Ltd., Hebei Metals & Engineering Products Trading Co., Ltd., Qinshui Shunshida Casting Co., Ltd., Richang Qiaoshan Trade Co., Ltd., Shanxi Zhongrui Tianyue Trading Co., Ltd., and Yangcheng Country Huawant Universal.

Final Results of Administrative Review

For the companies subject to this administrative review, including the companies that established their eligibility for a separate rate, Commerce determines that the following weighted-average dumping margins exist for the period February 20, 2018, through July 31, 2019:

Producers/exporters | Weighted- average dumping margin (percent)
Wor-Biz Industrial Product Co., Ltd. (Anhui) | 18.16
Non-Selected Companies Under Review Receiving a Separate Rate:
Dalian Lino F.T.Z. Co., Ltd | 18.16
Dalian Metal I/E Co., Ltd | 18.16
Dinggin Hardware (Dalian) Co., Ltd | 18.16
Shijiazhuang Asia Casting Co., Ltd | 18.16

Disclosure

Normally, Commerce will disclose to the parties in a proceeding the calculations performed in connection with a final results of review within five days of the date of publication of the notice of final results in the Federal Register, in accordance with 19 CFR 351.224(b). However, here, Commerce made no adjustments to the margin calculation methodology used in the Preliminary Results, therefore there are no calculations to disclose for the final results.

Assessment Rates

Pursuant to section 751(a)(2)(A) of the Act and 19 CFR 351.212(b), Commerce has determined, and U.S. Customs and Border Protection (CBP) shall assess, antidumping duties on all appropriate entries of subject merchandise in accordance with the final results of this administrative review. Consistent with its recent notice,⁸ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁸ See Notice of Discontinuation of Policy to Issue Liquidation Instructions After 15 Days in Applicable Antidumping and Countervailing Duty Administrative Proceedings, 86 FR 3995 (January 15, 2021).

For entries that were not reported in the U.S. sales database submitted by Wor-Biz during this review, and for the companies that did not qualify for a separate rate in this review, Commerce will instruct CBP to liquidate such entries at the China-wide rate (i.e., 360.30 percent).

Cash Deposit Requirements

The following cash deposit requirements will be effective upon publication of these final results of this administrative review for shipments of the subject merchandise from China entered, or withdrawn from warehouse, for consumption on or after the publication date, as provided by sections 751(a)(2)(C) of the Act: (1) For companies listed above which have a separate rate, the cash deposit rate will be the weighted-average dumping margin established in the final results of this review; (2) for previously investigated or reviewed Chinese and non-Chinese exporters that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These cash deposit requirements, when imposed, shall remain in effect until further notice.

Notification to Importers

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

This notice also serves as a reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a sanctionable violation.

This determination is issued and published in accordance with sections 751(a)(1) and 777(i)(1) of the Act and 19 CFR 351.221(b)(5).

Dated: January 29, 2021.
Christian Marsh,
Acting Assistant Secretary for Enforcement and Compliance.

Appendix—List of Topics Discussed in the Issues and Decision Memorandum

1. Summary

2. Background

3. Scope of the Order

4. Discussion of the Issue

Comment: Whether to Average Surrogate Values for Financial Ratios

5. Recommendation

[FR Doc. 2021-02597 Filed 2-8-21; 8:45 am]

BILLING CODE 3510-DS-P